DEPARTMENT OF THE INTERIOR

Bureau of Land Management

[LLWO35000.L14300000.ER0000.24-1A]

Revision of Approved Information Collection, OMB Control Number 1004-0189

AGENCY: Bureau of Land Management, Interior.

ACTION: Notice and request for comments.

SUMMARY: The Bureau of Land Management (BLM) has submitted an information collection request (ICR) to extend a currently approved collection to collect the information listed below to the Office of Management and Budget (OMB) under the provisions of the Paperwork Reduction Act (44 U.S.C. 3501 et seq.). We use the information we collect to issue rights-of-way grants to use a specific piece of the public lands for certain projects, such as roads, pipelines, transmission lines, and communication sites. The BLM is seeking approval of the information collection on behalf of itself and the U.S. Fish and Wildlife Service, the National Park Service, the Bureau of Reclamation, and the U.S. Army Corps of Engineers.

DATES: OMB must respond to this request within 60 days but may respond after 30 days. For maximum consideration your comments and suggestions on the requirement should be made by December 26, 2008.

ADDRESSES: Send comments to the Office of Management and Budget, Interior Department Desk Officer (1004-0189), at OMB-OIRA via e-mail OIRA_DOCKET@omb.eop.gov or via facsimile at (202) 395-6566. Also please send a copy of your comments to BLM via Internet and include your name, address, and ATTN: 1004-0189 in your Internet message to information_collection@blm.gov or via mail to: U.S. Department of the Interior, Bureau of Land Management, Mail Stop 401LS, 1849 C Street, NW., ATTN: Bureau Information Collection Clearance Officer (WO-630), Washington, DC 20240.

FOR FURTHER INFORMATION CONTACT: You may contact Alzata L. Ransom, Division of Lands, Realty, and Cadastral Survey, at 202-452-7772. Persons who use a telecommunication device for the deaf (TDD) may call the Federal Information Relay Service (FIRS) on 1-800-877-8330, 24 hours a day, seven days a week, to contact Ms. Ransom.

SUPPLEMENTARY INFORMATION: On March 21, 2008, the BLM published a notice in the Federal Register (73 FR 15192) requesting public comments on the proposed collection. The comment period ended on May 20, 2008. BLM received no comments. You may obtain copies of the collection of information and related forms and explanatory material by contacting the BLM Information Collection Clearance Officer at the telephone number listed below.

We specifically request your comments on the following:

1. Whether the collection of information is necessary for the proper functioning of the BLM, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: Application for Transportation and Utility Systems and Facilities on Federal Lands, Standard Form 299.

OMB Control Number: 1004-0189.

Bureau Form Number: SF-299.

Frequency: Once per respondent, on occasion.

Description of Respondents: Individuals, partnerships, corporations, associations or other business entity and any Federal, state, or local governmental entity, including municipal corporations, seeking to obtain rights-of-way grants.

Estimated Completion Time: The following tables show the estimated completion time for applications submitted on behalf of various kinds of applicants to the several Federal agencies.

Statement of questions | Burden
Bureau of Land Management
(a) Total average annual applications for collection | 4,677 applications.
(b) Average annual applications per industry:
(1) Utility Industry | 3,577 applications.
(2) Service Providing Industry | 200 aplications.
(3) State and Local Government | 400 applications.
(4) Federal Government | 500 applications.
| 4,677
(b) Frequency of application (for each industry) | 1 application.
(c) Response time per applicant:
(1) Utility Industry | 25 hours.
(2) Service Providing Industry | 25 hours.
(3) State and Local Government | 25 hours.
(4) Federal Government | 25 hours.
(d) Annual response time for collection (25 hours × 4,677 annual responses) | 116,925 hours.
(e) Annual response time per industry:
(1) Utility Industry (3,577 × 25) | 89,425 hours.
(2) Service Providing Industry (200 × 25) | 5,000 hours.
(3) State and Local Government (400 × 25) | 10,000 hours.
(4) Federal Government (500 × 25) | 12,500 hours.
| 116,925
Fish and Wildlife Service
(a) Total average annual applications for collection | 62 applications.
(b) Average annual applications per industry:
(1) Utility Industry | 31 applications.
(2) Service Providing Industry | 9 applications.
(3) State and Local Government | 22 applications.
(b) Frequency of application (for each industry) | 1 application.
(c) Response time per applicant:
(1) Utility Industry | 25 hours.
(2) Service Providing Industry | 25 hours.
(3) State and Local Government | 25 hours.
(d) Annual response time for collection (25 hours × 4,677 annual responses) | 1,550 hours.
(e) Annual response time per industry:
(1) Utility Industry (31 × 25) | 775 hours.
(2) Service Providing Industry (9 × 25) | 225 hours.
(3) State and Local Government (22 × 25) | 550 hours.
National Park Service
(a) Total average annual applications for collection | 15 applications.
(b) Average annual applications per industry:
(1) Utility Industry | 2 applications.
(2) Service Providing Industry | 11 applications.
(3) State and Local Government | 2 applications.
(b) Frequency of application (for each industry) | 1 application.
(c) Response time per applicant:
(1) Utility Industry | 25 hours.
(2) Service Providing Industry | 2 hours.
(3) State and Local Government | 2 hours.
(d) Annual response time for collection | 76 hours.
(e) Annual response time per industry:
(1) Utility Industry (2 × 25) | 50 hours.
(2) Service Providing Industry (11 × 2) | 22 hours.
(3) State and Local Government Industry (2 × 2) | 4 hours.
Bureau of Reclamation
(a) Total average annual applications for collection | 1,000 applications.
(b) Average annual applications per industry:
(1) Utility Industry | 850 applications.
(2) Service Providing Industry | 50 applications.
(3) State and Local Government | 100 applications.
(b) Frequency of application (for each industry) | 1 application.
(c) Response time per applicant:
(1) Utility Industry | 25 hours.
(2) Service Providing Industry | 25 hours.
(3) State and Local Government | 25 hours.
(d) Annual response time for collection | 25,000 hours.
(e) Annual response time per industry:
(1) Utility Industry (850 × 25) | 21,250 hours.
(2) Service Providing Industry (50 × 25) | 1,250 hours.
(3) State and Local Government (100 × 25) | 2,500 hours.
U.S. Army Corps of Engineers
(a) Total average annual applications for collection | 32 applications.
(b) Average annual applications per industry:
(1) Utility Industry | 32 applications.
(b) Frequency of application (for each industry) | 1 application.
(c) Response time per applicant:
(1) Utility Industry | 25 hours.
(d) Annual response time for collection | 800 hours.
(e) Annual response time per industry:
(1) Utility Industry (32 × 25) | 800 hours.

Annual Responses: 5,786.

Annual Burden Hours: 144,351.

Total Annual Application and Cost Recovery Fees: $8,611,902.

Bureau Clearance Officer: Ted R. Hudson, 202-452-5042.

Dated: November 21, 2008.
Ted R. Hudson,
Acting Chief, Regulatory Affairs.

[FR Doc. E8-28101 Filed 11-25-08; 8:45 am]

BILLING CODE 4310-84-P